DEPARTMENT OF HEALTH AND HUMAN SERVICES

Centers for Medicare & Medicaid Services

42 CFR Part 418

[CMS-1835-P]

RIN 0938-AV49

Medicare Program; FY 2026 Hospice Wage Index and Payment Rate Update and Hospice Quality Reporting Program Requirements

Correction

In Proposed Rule document, 2025-06317, appearing on pages 18568 through 18587, in the issue of Wednesday April 30, 2025, make the following correction:

On page 18568, in the first column, in the DATES: section, the entry “June 30, 2025” should read “June 10, 2025”.

[FR Doc. C1-2025-06317 Filed 5-16-25; 4:15 pm]

BILLING CODE 0099-10-D